ENVIRONMENTAL PROTECTION AGENCY

[ER-FRL-6611-5]

Environmental Impact Statements; Notice of Availability

Responsible Agency: Office of Federal Activities, General Information (202) 564-7167 or www.epa.gov/oeca/ofa

Weekly receipt of Environmental Impact Statements

Filed September 25, 2000 Through September 29, 2000

Pursuant to 40 CFR 1506.9.

EIS No. 000335, Final EIS, FHW, WI, WI-113 Wisconsin River Crossing at Merrimac, Improvements, US Coast Guard and COE Section 10 and 404 Permits, Columbia and Sauk Counties, WI, Due: November 06, 2000, Contact: Peter Garcia (608) 829-7513.

EIS No. 000336, Draft EIS, BLM, MA, New Bedford Whaling National Historical Park, General Management Plan, Implementation, Bristol County, MA , Due: December 01, 2000, Contact: John Piltzecker (508) 996-4095.

EIS No. 000337, Draft Supplement, IBR, CA, East Bay Municipal Utility District Supplemental Water Supply Project and Water Service Contract Amendment, New and Additional Information on Alternatives, American River Division of the Central Valley Project (CVP), Sacramento County, CA, Due: November 20, 2000, Contact: Rob Schroeder (916) 988-1707.

EIS No. 000338, Draft EIS, STB, SD, WY, MN, Powder River Basin Expansion Project, Construction of New Rail Facilities, Finance Docket No. 33407 Dakota, Minnesota and Eastern Railroad, SD, WY and MN, Due: November 20, 2000, Contact: Victoria Rutson (202) 565-1545.

EIS No. 000339, Final EIS, AFS, KY, Daniel Boone National Forest, Implementation, Salvage Harvest Due to 1998 Storm Damage Timber, McCreary and Pulaske County, KY, Due: November 06, 2000, Contact: Benjamin T. Washington (606) 679-2018.

EIS No. 000340, Final EIS, AFS, ID, Warm Springs Ridge Vegetation Management Project, Improve Forest Condition, Boise National Forest, Cascade Resource Area, Boise County, ID, Due: November 06, 2000, Contact: Kathy Ramirez (208) 392-6681.

EIS No. 000341, Final Supplement, COE, CA, Port of Los Angeles Channel Deepening Project, To Improve Navigation and Disposal of Dredge Material for the Inner Harbor Channels, Los Angeles County, CA, Due: November 06, 2000, Contact: Larry Smith (213) 452-3846.

EIS No. 000342, Draft EIS, NOA, AK, Cook Inlet Beluga Whale Stock, Federal Actions Associated with the Management and Recovery, Implementation, Cook Inlet, AK, Due: November 20, 2000, Contact: P. Michael Payne (907) 586-2735.

EIS No. 000343, Draft EIS, UAF, TX, Brooks City Base Project, To Improve Mission Effectiveness and Reduce Cost of Quality Installation Support, Implementation, Brooks Air Force Base, Bexar County, TX, Due: November 20, 2000, Contact: Jonathan D. Farthing (210) 536-3668.

EIS No. 000344, Draft EIS, BLM, UT, 3R Minerals Coal Bed Canyon Mine Plan, Approval, Grand Staircase-Escalante National Monument, Garfield County, UT, Due: December 04, 2000, Contact: Paul Chapman (435) 644-4309.

Amended Notices

EIS No. 000196, Draft EIS, NPS, MN, Voyageurs National Park General Management, Visitor Use and Facilities Plans, Implementation, Koochiching and St. Louis Counties, MN, Due: October 23, 2000, Contact: Kathleen Przybylski (218) 283-9821. Revision of FR notice published on 06/23/2000: CEQ Comment Date has been Extended from 09-22-2000 to 10/23/2000.

Dated: October 2, 2000.
Joseph C. Montgomery,
Director, NEPA Compliance Division, Office of Federal Activities.

[FR Doc. 00-25787 Filed 10-5-00; 8:45 am]

BILLING CODE 6560-50-P